DEPARTMENT OF TRANSPORTATION

Federal Aviation Administration

14 CFR Part 25

[Docket No. NM318; Special Conditions No. 25-329-SC]

Special Conditions: Airbus Model A380-800 Airplane, Escape Systems Installed in Non-Pressurized Compartments

AGENCY: Federal Aviation Administration (FAA), DOT.

ACTION: Final special conditions.

SUMMARY: These special conditions are issued for the Airbus A380-800 airplane. This airplane will have novel or unusual design features when compared to the state of technology envisioned in the airworthiness standards for transport category airplanes. Many of these novel or unusual design features are associated with the complex systems and the configuration of the airplane, including its full-length double deck. For these design features, the applicable airworthiness regulations do not contain adequate or appropriate safety standards regarding escape systems installed in non-pressurized compartments. These special conditions contain the additional safety standards that the Administrator considers necessary to establish a level of safety equivalent to that established by the existing airworthiness standards. Additional special conditions will be issued for other novel or unusual design features of the Airbus Model A380-800 airplane.

DATES: Effective Date: The effective date of these special conditions is August 28, 2006.

FOR FURTHER INFORMATION CONTACT: Holly Thorson, FAA, International Branch, ANM-116, Transport Airplane Directorate, Aircraft Certification Service, 1601 Lind Avenue, SW., Renton, Washington 98055-4056; telephone (425) 227-1357; facsimile (425) 227-1149.

SUPPLEMENTARY INFORMATION:

Background

Airbus applied for FAA certification/validation of the provisionally-designated Model A3XX-100 in its letter AI/L 810.0223/98, dated August 12, 1998, to the FAA. Application for certification by the Joint Aviation Authorities (JAA) of Europe had been made on January 16, 1998, reference AI/L 810.0019/98. In its letter to the FAA, Airbus requested an extension to the 5-year period for type certification in accordance with 14 CFR 21.17(c).

The request was for an extension to a 7-year period, using the date of the initial application letter to the JAA as the reference date. The reason given by Airbus for the request for extension is related to the technical challenges, complexity, and the number of new and novel features on the airplane. On November 12, 1998, the Manager, Aircraft Engineering Division, AIR-100, granted Airbus' request for the 7-year period, based on the date of application to the JAA.

In its letter AI/LE-A 828.0040/99 Issue 3, dated July 20, 2001, Airbus stated that its target date for type certification of the Model A380-800 had been moved from May 2005, to January 2006, to match the delivery date of the first production airplane. In a subsequent letter (AI/L 810.0223/98 issue 3, dated January 27, 2006), Airbus stated that its target date for type certification is October 2, 2006. In accordance with 14 CFR 21.17(d)(2), Airbus chose a new application date of December 20, 1999, and requested that the 7-year certification period which had already been approved be continued. The FAA has reviewed the part 25 certification basis for the Model A380-800 airplane, and no changes are required based on the new application date.

The Model A380-800 airplane will be an all-new, four-engine jet transport airplane with a full double-deck, two-aisle cabin. The maximum takeoff weight will be 1.235 million pounds with a typical three-class layout of 555 passengers.

Type Certification Basis

Under the provisions of 14 CFR 21.17, Airbus must show that the Model A380-800 airplane meets the applicable provisions of 14 CFR part 25, as amended by Amendments 25-1 through 25-98. If the Administrator finds that the applicable airworthiness regulations do not contain adequate or appropriate safety standards for the Airbus A380-800 airplane because of novel or unusual design features, special conditions are prescribed under the provisions of 14 CFR 21.16.

In addition to the applicable airworthiness regulations and special conditions, the Airbus Model A380-800 airplane must comply with the fuel vent and exhaust emission requirements of 14 CFR part 34 and the noise certification requirements of 14 CFR part 36. In addition, the FAA must issue a finding of regulatory adequacy pursuant to section 611 of Public Law 93-574, the “Noise Control Act of 1972.”

Special conditions, as defined in 14 CFR 11.19, are issued in accordance with 14 CFR 11.38 and become part of the type certification basis in accordance with 14 CFR 21.17(a)(2).

Special conditions are initially applicable to the model for which they are issued. Should the type certificate for that model be amended later to include any other model that incorporates the same novel or unusual design feature, the special conditions would also apply to the other model under the provisions of 14 CFR 21.101.

Discussion of Novel or Unusual Design Features

All of the escape systems on the upper deck and one pair of the escape systems on the main deck of this airplane are installed in non-pressurized compartments. These non-pressurized compartments will be exposed to extremely cold temperatures on every flight.

When the certification testing was conducted for previous airplane programs, the FAA considered that the extreme environmental conditions to which the escape systems can be exposed would be independent of one another. For example, the escape system would be tested under conditions of extreme cold in one test and exposed to 25-knot winds at ambient temperature in a separate test. On the Model A380-800 airplane, however, all the upper deck escape systems and one pair of the main deck escape systems are located in non-pressurized compartments. As a result, these escape systems will be exposed to extremely cold temperatures on every flight. Therefore, they must be tested under conditions of both extremely cold temperatures and strong winds.

In the past, several airplanes have had a pair of escape systems installed in non-pressurized compartments. These escape systems were off-wing systems that are less affected by wind than are other escape systems, and only one pair of exits was affected. Testing the combined effects of extremely cold temperature and strong winds was not required for these systems. On the A380, however, one-half of the escape systems are installed in non-pressurized compartments. Therefore, the adverse effects of a failure of the escape system—due to the combination of extremely cold temperatures and strong wind—would be much more severe.

The regulations do not adequately address escape systems installed in non-pressurized compartments; therefore, a special condition is needed to require the applicant to demonstrate that escape systems in non-pressurized compartments function properly when exposed to both extremely cold temperatures and strong winds.

Discussion of Comments

Notice of Proposed Special Conditions No. 25-05-13-SC, pertaining to escape systems installed in non-pressurized compartments, was published in the Federal Register on August 9, 2005 (70 FR 46099). Comments were received from the Airline Pilots Association (ALPA) and from an individual commenter.

Requested change 1: ALPA suggests that the special conditions “should be amended to ensure that the testing done to evaluate that the escape system functions correctly after exposure to cold soak and high altitude also evaluates the repeated cycling of these parameters. In addition, exposure to heat and humidity, water intrusion and the introduction of precipitation propelled at and past the slide compartment at speeds equal to those used in approaches and departures should also be evaluated.”

FAA response: Evaluation of the response of the escape systems installed in non-pressurized compartments to these environmental conditions is required by 14 CFR 25.1309 and will be addressed as part as the compliance demonstration for the escape systems. Accordingly, we have not changed the special condition, as proposed.

Requested change 2: The individual commenter addresses the stowage of survival kits with the slide/rafts in non-pressurized locations. He states that, “The safety issue is that the life/raft items are not immediately ready and attached to the slide/raft in a ditching as they are on slide/rafts stored in the pressurized section of aircraft.”

FAA response: Stowage of survival kits has not yet been resolved for the upper deck slide/rafts. In the case of portable life rafts, the entire raft must be retrieved for ditching; with slide/rafts, the raft is available automatically when the exit is opened. It may be feasible to stow the survival kit separately from the slide/raft and maintain the same level of safety as that provided by portable rafts, and that would be an acceptable design alternative. This can be addressed within the existing regulations. Therefore, no change has been made to the special conditions, as proposed.

Applicability

As discussed above, these special conditions are applicable to the Airbus A380-800 airplane. Should Airbus apply at a later date for a change to the type certificate to include another model incorporating the same novel or unusual design features, these special conditions would apply to that model as well under the provisions of § 21.101.

Conclusion

This action affects only certain novel or unusual design features of the Airbus A380-800 airplane. It is not a rule of general applicability.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Airbus A380-800 airplane.

In addition to the requirements of §§ 25.810, 25.1301 and 25.1309, the following special condition applies:

For the escape systems on the Model A380-800 airplane that are installed in non-pressurized compartments and thus are exposed to extremely cold temperatures on every flight, it must be demonstrated that the escape systems function properly in the combination of the cold soak associated with long flight at altitude and a 25-knot wind from the critical angle.

Issued in Renton, Washington, on August 28, 2006.
Ali Bahrami,
Manager, Transport Airplane Directorate, Aircraft Certification Service.

[FR Doc. E6-15011 Filed 9-8-06; 8:45 am]

BILLING CODE 4910-13-P